DEPARTMENT OF ENERGY

Federal Energy Regulatory Commission

[Project No. 2100-180—California]

California Department of Water Resources; Notice of Availability of Environmental Assessment

In accordance with the National Environmental Policy Act of 1969 and the Federal Energy Regulatory Commission's (Commission or FERC's) regulations, 18 Code of Federal Regulations Part 380, the Office of Energy Projects has reviewed an application filed by the California Department of Water Resources on May 17, 2017, and supplemented June 16 and June 20, 2017, to permanently reroute three existing primary transmission lines at the Feather River Project No. 2100 between the Hyatt Pumping-Generating Plant and the Table Mountain Substation. The proposal would allow California Department of Water Resources to continuously deliver electricity along a different route away from repair activities at the project's damaged main spillway and emergency spillway area. The Feather River Project is located on the Feather River in Butte County, California.

Staff prepared an environmental assessment (EA) for the application which analyzes the potential environmental effects of approving the requested transmission line modification. In the EA, staff concludes that such an approval, with specified environmental protection measures, would not constitute a major federal action that would significantly affect the quality of the human environment.

A copy of the EA is available for review at the Commission's Public Reference Room or it may be viewed on the Commission's Web site at www.ferc.gov using the eLibrary link. Enter the docket number P-2100-180 in the docket number field to access the document. For assistance, contact FERC Online Support at FERCOnlineSupport@ferc.gov or toll-free at 1-866-208-3676, or for TTY, 202-502-8659.

For further information, contact Mr. John Aedo at (415) 369-3335 or by email at john.aedo@ferc.gov.

Dated: August 23, 2017.
Kimberly D. Bose,
Secretary.

[FR Doc. 2017-18239 Filed 8-28-17; 8:45 am]

BILLING CODE 6717-01-P